COMMISSION ON CIVIL RIGHTS

Agenda and Notice of Public Meeting of the Rhode Island Advisory Committee

Notice is hereby given, pursuant to the provisions of the rules and regulations of the U.S. Commission on Civil Rights, that a meeting with briefing of the Rhode Island State Advisory Committee will convene at 9 a.m. and adjourn at 1 p.m., on Wednesday, May 3, 2006. The meeting will include a planning session and then the Committee will conduct a briefing to hear from experts on the disparate treatment of minority youth in the education and justice systems. The briefing will be held in The Atrium on the Liston Campus of the Community College of Rhode Island at One Hilton Place in Providence, Rhode Island.

This briefing is open to the public. Members of the public needing disability accommodations are asked to contact Barbara de La Viez of the Eastern Regional Office by Tuesday, May 2, 2006.

The meeting with briefing will be conducted pursuant to the provisions of the rules and regulations of the Commission. It was not possible to publish this notice 15 days in advance of the meeting date because of internal processing delays.

The meeting with briefing will be conducted pursuant to the provisions of the rules and regulations of the Commission.

Dated at Washington, DC, April 25, 2006.
Ivy L. Davis,
Acting Chief, Regional Programs Coordination Unit.

[FR Doc. E6-6447 Filed 4-27-06; 8:45 am]

BILLING CODE 6335-01-P